NATIONAL ARCHIVES AND RECORDS ADMINISTRATION

36 CFR Parts 1254 and 1284

RIN 3095-AB10

Revision of NARA Research Room Procedures

AGENCY: National Archives and Records Administration (NARA).

ACTION: Final rule.

SUMMARY: NARA has revised its regulations on research room procedures to incorporate several changes, and also to clarify it using plain language. In addition, information about the loan of archival materials for exhibits has been moved to 36 CFR part 1284. This rule affects the public.

DATES: Effective Date: July 30, 2004.

FOR FURTHER INFORMATION CONTACT: Jennifer Davis Heaps at 301-837-1801.

SUPPLEMENTARY INFORMATION: The proposed rule was published in the March 31, 2004, Federal Register (69 FR 16863) for a 60-day public comment period. NARA notified several researcher organizations about the proposed rule. A copy of the proposed rule was also posted on the NARA Web site and in onsite research rooms in NARA facilities. NARA received two responses to the proposed rule from the public.

The majority of the proposed rule was dedicated to NARA's research room rules nationwide in part 1254. The proposed rule also included in part 1254 NARA's policy about private microfilming of archival materials. The proposed rule further proposed to change our regulations by moving our policy on loaning archival materials for exhibits to part 1284.

One member of the public suggested that NARA issue identification cards with fingerprints and photographs to researchers using original materials. NARA already issues photo identification cards in locations containing the largest volume and most heavily consulted historical materials. We may be able to implement photo identification cards in other NARA facilities and may do so when practicable. We do not have legal authority to take fingerprints from the public, however, and did not adopt that recommendation.

One member of the public commented that NARA should not have detailed regulations but rather provide discretion to NARA managers in how to operate research rooms under their jurisdiction. We did not adopt this comment. While managers may have some latitude in making decisions based on local circumstances, NARA believes that having research room rules codified in regulations is a public service to help provide a common understanding among our users.

One member of the public suggested that NARA encourage the use of digital cameras and discourage personal copiers. Our foremost concern about the creation of any copies of historical materials is with the preservation of the originals. As long as the equipment and the conditions of its use complies with NARA's need to preserve the original materials, researchers may use the equipment that meets their needs.

One public commenter urged NARA to have private microfilmers create microfilm publications or copies by digitally scanning original historical materials, rather than filming materials with conventional microfilm methods. The commenter argued that scanning first produces superior quality microfilm than conventional filming. The commenter also believed that the regulations ought to indicate when documents should be scanned first and include technical requirements for scanning equipment and the microfilm produced from the scanners. In addition, the commenter said that NARA should require that vendors produce copies of all digital files for NARA use, including posting on its Web site.

In the proposed rule, we indicated our intention to retain the subpart outlining our policies for private microfilming of records and donated historical materials in our custody without substantive change. We intend to address private scanning and digitizing project requests in a future rulemaking.

One public commenter pointed out that some of the information about microfilm and copyright needed clarification. In § 1254.98, the publisher does not need to do anything to have its work protected by copyright law because any new information added to the filmed documents is automatically protected. The publisher can only claim copyright to its own material added to the film; NARA documents in the public domain remain in the public domain, as indicated in § 1254.96. The commenter also said that NARA needs to claim a royalty-free worldwide license to not only sell copies of the publication, but also to reproduce, distribute, display images, print from, digitize, and prepare derivative works from the copyright-protected portions after 7 years.

We agreed that the language in § 1254.98 needed some clarification for better reader understanding and made some necessary changes. We removed language implying that a microfilm publisher must apply for copyright protection. We also clarified NARA's rights to subsequent use of any publication in § 1254.98 and related text in §§ 1254.100(g)(1) and 1254.100(g)(2).

We proposed moving the existing § 1254.1(f) on the loan of NARA archival materials to other institutions for exhibit purposes to part 1284 of this chapter. One commenter said that NARA should lend documents to other archival institutions for research use. We did not adopt this comment. While NARA has recognized the benefits of making historical materials available through loan to other institutions temporarily for exhibit purposes, we do not generally make temporary loans for research purposes—even to Federal agencies for reference purposes as indicated at § 1228.280.

This final rule is not a significant regulatory action for the purposes of Executive Order 12866 and has not been reviewed by the Office of Management and Budget (OMB). As required by the Regulatory Flexibility Act, it is hereby certified that this final rule will not have a significant impact on a substantial number of small entities because this rule applies to individual researchers. This final rule contains two information collections previously approved by OMB. This final rule does not have any federalism implications. This rule is not a major rule as defined in 5 U.S.C. Chapter 8, Congressional Review of Agency Rulemaking.

List of Subjects

36 CFR Part 1254

Archives and records, Micrographics.

36 CFR Part 1284

Archives and records, Federal buildings and facilities.

For the reasons set forth in the preamble, NARA amends chapter XII of title 36 of the Code of Federal Regulations as follows:

1. Revise Part 1254 to read as follows:

PART 1254—USING RECORDS AND DONATED HISTORICAL MATERIALS

Subpart A—General Information
Sec.
1254.1 What kinds of archival materials may I use for research?
1254.2 Does NARA provide information about documents?
1254.4 Where and when are documents available to me for research?
1254.6 Do I need a researcher identification card to use archival materials at a NARA facility?
1254.8 What information do I need to provide when applying for a researcher identification card?
1254.10 For how long and where is my researcher identification card valid?
1254.12 Will NARA log or inspect my computer, other equipment, and notes?
1254.14 Are some procedures in regional archives and Presidential libraries different from those in the Washington, DC, area?
Subpart B—Research Room Rules
General Procedures
1254.20 What general policies apply in all NARA facilities where archival materials are available for research?
1254.22 Do I need to register when I visit a NARA facility for research?
1254.24 Whom does NARA allow in research rooms?
1254.26 What can I take into a research room with me?
1254.28 What items are not allowed in research rooms?
1254.30 Does NARA provide any supplies?
1254.32 What rules apply to public access use of the Internet on NARA-supplied computers?
Rules Relating To Using Original Documents
1254.34 What are my responsibilities when using documents?
1254.36 What care must I take when handling documents?
1254.38 How do I keep documents in order?
1254.40 How does NARA prevent removal of documents?
Rules Relating To Using Microfilm
1254.42 What are the rules that apply to using self-service microfilm?
1254.44 How long may I use a microfilm reader?
Other Conduct Rules
1254.46 Are there other rules of conduct that I must follow?
1254.48 When does NARA revoke research privileges?
1254.50 Does NARA consider reinstating research privileges?
1254.52 Can NARA extend the period of revoked research privileges?
Subpart C—Copying Archival Materials
General Information
1254.60 What are NARA's copying services?
1254.62 Does NARA have archival materials protected by copyright?
1254.64 Will NARA certify copies?
Rules Relating To Self-Service Copying
1254.70 How may I make my own copies of documents?
1254.72 What procedures do I follow to copy documents?
1254.74 What documents are unsuitable for copying on a self-service or personal copier or scanner?
1254.76 What procedures do I follow to copy formerly national security-classified documents?
Rules Relating To Using Copying Equipment
1254.80 Does NARA allow me to use scanners or other personal copying equipment?
1254.82 What limitations apply to my use of self-service card-operated copiers?
1254.84 How may I use a debit card for copiers in the Washington, DC, area?
1254.86 May I use a personal paper-to-paper copier at the National Archives at College Park?
1254.88 What are the rules for the Motion Picture, Sound, and Video Research Room at the National Archives at College Park?
Subpart D—Microfilming Archival Materials
1254.90 What is the scope of this subpart?
1254.92 How do I submit a request to microfilm records and donated historical materials?
1254.94 What must my request include?
1254.96 What credits must I give NARA?
1254.98 May NARA make subsequent use of my publication?
1254.100 How does NARA evaluate requests?
1254.102 What requests does NARA not approve?
1254.104 How does NARA determine fees to prepare documents for microfilming?
1254.106 What are NARA's equipment standards?
1254.108 What are NARA's requirements for the microfilming process?
1254.110 Does NARA ever rescind permission to microfilm?

Authority: 44 U.S.C. 2101-2118.

Subpart A—General Information

§ 1254.1 What kinds of archival materials may I use for research?

(a) The National Archives and Records Administration (NARA) preserves records of all three branches (Executive, Legislative, and Judicial) of the Federal Government in record groups that reflect how government agencies created and maintained them. Most of these records are of Executive Branch agencies. We also have individual documents and collections of donated historical materials that significantly supplement existing records in our custody or provide information not available elsewhere in our holdings. Descriptions of many of our records are available through our Web site, http://www.archives.gov.

(b) We provide information about records and we make them available to the public for research unless they have access restrictions. Some records may be exempt from release by law. Donors may apply restrictions on access to historical materials that they donate to NARA. Access restrictions are further explained in part 1256 of this chapter. We explain procedures for obtaining information about records in § 1254.2.

(c) In addition to traditional paper (textual) materials, our holdings also include special media materials such as microfilm, still pictures, motion pictures, sound and video recordings, cartographic and architectural records, and electronic records. The majority of these materials are housed at the National Archives at College Park, 8601 Adelphi Road, College Park, MD 20740-6001. Many of these types of materials also are represented in the holdings of our Presidential libraries and our regional archives facilities listed in part 1253 of this chapter.

(d) The majority of our archival materials are 30 years old or older.

(e) Records creating agencies hold the legal title and control access to records housed in NARA records centers. Our procedures to obtain access to these records are in § 1256.2.

§ 1254.2 Does NARA provide information about documents?

(a) Upon request, we provide overall information about our holdings or about specific documents, if the time required to furnish the information is not excessive and if the information is not restricted (see part 1256 of this chapter). For anyone unable to visit, we may provide information contained in specific documents by offering copies of the documents for a fee (see § 1254.60).

(b) Requests must be on designated forms when we require them. The Office of Management and Budget (OMB) approves these forms as information collections and the forms bear the approved control number.

(c) If requests that we receive in the normal course of reference service do not specifically cite the Freedom of Information Act (5 U.S.C. 552, as amended), we do not consider those requests made under the Act. To make a request under the Act, follow the procedures in part 1250 of this chapter.

§ 1254.4 Where and when are documents available to me for research?

(a) You may obtain general information about the location of records by visiting the NARA Web site at www.archives.gov; writing to the National Archives and Records Administration (NWCC2), 8601 Adelphi Road, College Park, MD 20740-6001; completing our Inquire form at http://www.archives.gov/global_pages/inquire_form.html; sending a fax request to (301) 837-0483; or calling (202) 501-5400, (301) 837-2000, or toll free (866) 272-6272.

(b) The locations and hours of operation (expressed in local time) of NARA's research rooms are shown in part 1253 of this chapter. Contact our facilities directly for information about their particular holdings. A facility or unit director may authorize that documents be made available at times other than the times specified in part 1253.

(c) Before planning a visit, contact the facility holding materials of potential interest to determine whether the documents are available, whether there are enough documents to warrant a visit, or whether ordering copies would be more practical.

(d) In addition to the procedures in this part, researchers who wish to use archival materials that contain national security classified information must follow procedures in part 1256 of this chapter.

§ 1254.6 Do I need a researcher identification card to use archival materials at a NARA facility?

(a) Yes, you need a researcher identification card to use original archival materials at a NARA facility. See §§ 1254.8 and 1254.10 for information on obtaining a card.

(b) You also need a researcher identification card if you wish to use only microfilm copies of documents in a NARA facility where the microfilm research room is not separate from textual research rooms.

(c) If you are using only microfilm copies of records in the National Archives Building and some regional archives where the microfilm research room is separate from textual research rooms, you do not need an identification card but you must register as described in § 1254.22.

§ 1254.8 What information do I need to provide when applying for a researcher identification card?

(a) You must apply in person and show identification containing your picture or physical description, such as a driver's license or school identification card. You also must provide proof of your current address, such as a bank statement, utility bill, or department of motor vehicles change of address card, if the address on your driver's license or other identification is not current. Students who consider the home of their parents as their permanent address, but who do not live there during the academic session, must provide their current student address. If you travel long distance to conduct research in original archival materials at a NARA facility, we may ask you how we can contact you locally. In special circumstances, the director of a facility or unit has the authority to grant exceptions to these requirements.

(b) If you apply for access to large quantities of documents or to documents that are especially fragile or valuable, we may require you to furnish additional information about reasons why you require access. Some materials are too fragile or valuable for direct handling or viewing. Preservation concerns (see §§ 1254.20(b) and 1254.36(e)) and availability of resources (see § 1254.20(c)) may limit our ability to accommodate certain requests.

(c) If you are younger than 14, you must follow the procedures in § 1254.24 to seek permission to conduct research.

(d) We do not issue you a researcher identification card if the appropriate supervisor or director of the NARA facility determines that the documents that you wish to use are not in the legal custody of NARA and you do not present appropriate written authorization from the legal title holder to examine the documents.

(e) The collection of information contained in this section has been approved by the Office of Management and Budget with the control number 3095-0016.

§ 1254.10 For how long and where is my researcher identification card valid?

(a) Your card is valid for 1 year and may be renewed. Cards we issue at one NARA facility are valid at each facility, except as described in paragraph (b) of this section. Cards are not transferable and you must present your card if a guard or research room attendant requests to see it.

(b) At NARA facilities in the Washington, DC, area and other NARA facilities that issue and use plastic researcher identification cards as part of their security systems, NARA issues a plastic card to replace the paper card issued at some NARA facilities at no charge. The plastic card is acceptable at all NARA facilities.

§ 1254.12 Will NARA log or inspect my computer, other equipment, and notes?

(a) If you bring personal computers, scanners, tape recorders, cameras, and other equipment into our facilities, we will inspect the equipment.

(1) In the Washington, DC, area, you must complete the Equipment Log at the guard's desk. The guard checks the log for proof of your personal ownership before you remove your equipment from the building.

(2) In the regional archives and Presidential libraries, we may tag your equipment after inspection and approval.

(b) Not all NARA facilities permit you to take your personal notes into the research room. In research rooms that permit taking in your notes, a NARA or contractor employee may stamp, initial, and date notes and other research materials we approve for admission to indicate that they are your personal property.

(c) We inspect your personal property, including notes, electrostatic copies, equipment cases, tape recorders, cameras, personal computers, and other property, before you may remove them from our research rooms or facilities.

§ 1254.14 Are some procedures in regional archives and Presidential libraries different from those in the Washington, DC, area?

Yes, the variety of facilities, locations of research rooms, room sizes, and other factors contribute to differences in some, but not all, practices from the Washington, DC, area. When the appropriate regional director of archival operations or Presidential library director indicates, you must follow the procedures in regional archives and Presidential library archival research rooms where researchers use original documents. These procedures are in addition to the procedures we specify elsewhere in this part. The procedures are either posted in the facility or the staff gives copies of them to researchers.

Subpart B—Research Room Rules

General Procedures

§ 1254.20 What general policies apply in all NARA facilities where archival materials are available for research?

(a) Researchers may use original documents only in the designated research room at the facility where they are stored.

(b) Researchers must use microfilm copies or other alternative copies of documents when available, rather than the original documents. Some of our microfilm publications are available in more than one NARA facility.

(c) We may limit the quantity of documents that we deliver to you at one time. In some research rooms, we furnish records according to a specific time schedule.

§ 1254.22 Do I need to register when I visit a NARA facility for research?

(a) Yes, you must register each day you enter a NARA research facility by furnishing the information on the registration sheet or scanning a bar-coded researcher identification card. We may ask you to provide additional personal identification.

(b) NARA facilities in the Washington, DC, area contain several research rooms; you must register in each research room you visit on a daily basis.

(c) In regional archives, you also sign out when leaving the research room for the day. In some Presidential libraries, where we instruct you to do so, you sign out when you leave the building.

§ 1254.24 Whom does NARA allow in research rooms?

(a) We limit admission to research rooms in our facilities to individuals examining or copying documents and other materials.

(b) We do not admit children under the age of 14 to these research rooms unless we grant them research privileges (see paragraph (d) of this section).

(c) The appropriate supervisor may make exceptions for a child who is able to read and who will be closely supervised by an adult while in the research room. The adult must agree in writing to be present when the child uses documents and to be responsible for compliance with the research room and copying rules in subparts B and C of this part.

(d) Students under the age of 14 who wish to perform research on original documents must apply in person at the facility where the documents are located. At the National Archives Building, apply to the chief of the Research Support Branch (NWCC1). At the National Archives at College Park, apply to the chief of the Research Support Branch (NWCC2). For regional archives and Presidential libraries, apply to the appropriate supervisor or archivist in charge. We may require either that the student must present a letter of reference from a teacher or that an adult accompany the student while doing research. Students may contact NARA by phone, e-mail, fax, or letter in advance of their visit to discuss their eligibility for research privileges. Current contact information for our facilities is available on our Web site, http://www.archives.gov.

(e) We may permit adults and children participating in scheduled tours or workshops in our research rooms when they do not handle any documents that we show to them. These visitors do not need a researcher identification card.

§ 1254.26 What can I take into a research room with me?

(a) Personal belongings. You may take a hand-held wallet and coin purse for the carrying of currency, coins, credit cards, keys, driver's license, and other identification cards into research rooms, but these are subject to inspection when you enter or leave the room. The guard or research room attendant determines whether your wallet or purse is sufficiently small for purposes of this section. You may take cell phones, pagers, and similar telecommunications devices into a research room only under the circumstances cited in § 1254.46(b) and, for cell phone cameras, in § 1254.70(g).

(b) Notes and reference materials. You may take notes, references, lists of documents to be consulted, and other materials into a research room if the supervisor administering the research room or the senior staff member on duty in the research room determines that they are essential to your work requirements. Not all facilities permit you to take notes into the research room. In facilities that allow you to bring notes, staff may stamp your items to indicate that they are your property.

(c) You may bring back into the research room on subsequent visits your research notes made on notepaper and notecards we provide and electrostatic copies you make on copying machines in NARA research rooms which are marked with the statement “Reproduced at the National Archives.” You must show any notes and copies to the research room attendant for inspection when you enter the research room.

(d) Personal equipment. The research room attendant, with approval from the supervisor, archivist, or lead archives technician in charge of the room, may admit personal computers, tape recorders, scanners, cameras, and similar equipment if the equipment meets NARA's approved standards for preservation. We do not approve the use of any equipment that could potentially damage documents. If demand to use equipment exceeds the space available for equipment use, we may impose time limits. If you wish to use computers, sound recording devices, or other equipment, you must work in areas the research room attendant designates, when required.

§ 1254.28 What items are not allowed in research rooms?

(a) You may not bring into the research rooms overcoats, raincoats, jackets, hats, or other outerwear; personal paper-to-paper copiers, unless permitted in accordance with § 1254.86 of this part; briefcases, satchels, valises, suitcases, day packs, purses, boxes, or similar containers of personal property. We may make exceptions for headwear worn for religious or health reasons. In facilities where we provide notepaper and notecards, you also may not bring into the research room notebooks, notepaper, notecards, folders or other containers for papers.

(b) You may store personal items at no cost in lockers or other storage facilities in the NARA facility. These lockers or other storage facilities are available on a first-come-first-served basis.

(c) You must remove your personal belongings each night from the lockers or other storage facilities we provide to hold them. If you do not remove your personal belongings, NARA personnel will remove them. We post directions for reclaiming confiscated items near the lockers or other storage facilities.

(d) NARA is not responsible for the loss or theft of articles you store in the lockers.

(e) We may charge a replacement fee for lost locker keys.

(f) Knives and other sharp objects such as box cutters, razors, or wire are not permitted in our research rooms.

§ 1254.30 Does NARA provide any supplies?

Yes, in most facilities NARA furnishes you, without charge, pencils and specially marked lined and unlined notepaper and notecards, for use in the research rooms. NARA also provides diskettes and paper for our public access computers. Return unused pencils and notepaper, notecards, diskettes, and printer paper to the research room attendant at the end of the day.

§ 1254.32 What rules apply to public access use of the Internet on NARA-supplied computers?

(a) Public access computers (workstations) are available for Internet use in all NARA research rooms. The number of workstations varies per location. We provide these workstations for research purposes on a first-come-first-served basis. When others are waiting to use the workstation, we may impose a 30-minute time limit on the use of the equipment.

(b) You should not expect privacy while using these workstations. These workstations are operated and maintained on a United States Government system, and activity may be monitored to protect the system from unauthorized use. By using this system, you expressly consent to such monitoring and the reporting of unauthorized use to the proper authorities.

(c) You may not use these workstations to gain access to entertainment or other inappropriate Web sites in our research rooms. You also may not use these workstations to conduct private business not related to your research or NARA holdings.

(d) NARA provides at least one Internet access workstation in each facility that complies with the Workforce Investment Act of 1998, ensuring comparable accessibility to individuals with disabilities.

(e) You may download information to a diskette and print materials, but the research room staff will furnish the diskettes and paper. You may not use personally owned diskettes on NARA personal computers. You may not load files or any type of software on these workstations.

Rules Relating to Using Original Documents

§ 1254.34 What are my responsibilities when using documents?

(a) You must sign for the documents you receive and we may require you to show your researcher identification card.

(b) You are responsible for the proper handling of and prevention of damage to all documents delivered to you until you return them. Specific handling instructions are given in §§ 1254.36 and 1254.38.

(c) When you finish using the documents, you must return them to the research room attendant.

(d) You must not remove the reference service slip that accompanies the documents to the research room.

(e) If we ask, you must return documents up to 15 minutes before closing time.

(f) Before leaving a research room, even for a short time, you must notify the research room attendant and place all documents in their proper containers.

§ 1254.36 What care must I take when handling documents?

To prevent damage to documents, we have rules relating to the physical handling of documents.

(a) You must use only pencils in research rooms where original documents are used.

(b) You must not lean on, write on, refold, trace, or otherwise handle documents in any way likely to cause damage.

(c) You must follow any additional rules that apply to the use of special media records at our facilities, such as wearing cotton gloves we provide you for handling still pictures and any original film-based materials.

(d) You must identify documents for reproduction only with a paper tab that we provide you. You must not use paper clips, rubber bands, self-stick notes or similar devices to identify documents.

(e) You must use exceptionally valuable or fragile documents only under conditions the research room attendant specifies.

(f) You must request that research room personnel unstaple or remove other fasteners from documents that cannot otherwise be read.

(g) If you notice damage to any document(s), notify the research room attendant immediately.

§ 1254.38 How do I keep documents in order?

(a) You must keep unbound documents in the order in which we deliver them to you.

(b) You must not attempt to rearrange documents that appear to be in disorder. Instead, you must refer any suspected problems with the records to the research room attendant.

(c) You may use only one folder at a time.

(d) Remove documents from only one container at a time.

§ 1254.40 How does NARA prevent removal of documents?

(a) You must not remove documents from a research room. Removing, mutilating, or revising or otherwise altering documents is forbidden by law and is punishable by fine or imprisonment or both (18 U.S.C. 2071).

(b) Upon leaving the research room or facility, you must present for examination any article that could contain documents or microfilm, as well as presenting copies or notes to ensure that no original records are mixed in with them.

(c) To ensure that no one unlawfully removes or mutilates documents, NARA may post at the entrance to research rooms instructions supplementing the rules in this part. These instructions are specific to the kinds of records you use or to the facility where the records are stored.

Rules Relating to Using Microfilm

§ 1254.42 What are the rules that apply to using self-service microfilm?

NARA makes available microfilm copies of many records on a self-service basis.

(a) When microfilm is available on a self-service basis, research room attendants assist you in identifying research sources on microfilm and provide information concerning how to locate and retrieve the roll(s) of film containing the information of interest. You are responsible for retrieving and examining the roll(s).

(b) Unless you require assistance in learning how to operate microfilm reading equipment or have a disability, we expect you to install the microfilm on the reader, rewind it when finished, remove it from the reader, and return it to the proper microfilm box. You must carefully remove from and return to the proper microfilm boxes rewound microfilm. You must take care when loading and unloading microfilm from microfilm readers. Report damaged microfilm to the research room attendant as soon you discover it.

(c) Unless we make an exception, you may use only one roll of microfilm at a time.

(d) After using each roll, you must return the roll of microfilm to the location from which you removed it, unless we otherwise instruct you.

(e) You should bring to the attention of the research room attendant any microfilm you find in the wrong box or file cabinet.

§ 1254.44 How long may I use a microfilm reader?

(a) Use of the microfilm readers in the National Archives Building is on a first-come-first-served basis. When other researchers are waiting to use a microfilm reader, we may place a 3-hour limit on using a reader. After 3 hours of machine use, you may sign the waiting list for an additional 3-hour period. For fire safety reasons, we may limit the number of researchers in the microfilm research room in the National Archives Building to those researchers assigned a microfilm reader.

(b) Archival operations directors at our regional archives may permit reservations for use of microfilm readers and set time limits on use to meet local circumstances.

Other Conduct Rules

§ 1254.46 Are there other rules of conduct that I must follow?

(a) Part 1280 specifies conduct rules for all NARA facilities. You must also obey any additional rules supplementing Subpart B of part 1254 that are posted or distributed by the facility director.

(b) You may not eat, drink, chew gum, smoke, or use smokeless tobacco products, or use a cell phone, pager, or similar communications device that emits sound signals in a research room. Communications devices must be in vibrate mode. You must make and receive telephone calls outside of research rooms.

(c) We prohibit loud talking and other activities likely to disturb other researchers.

§ 1254.48 When does NARA revoke research privileges?

(a) Behaviors listed in paragraphs (a)(1) through (a)(4) of this section may result in NARA denying or revoking research privileges.

(1) Refusing to follow the rules and regulations of a NARA facility;

(2) Demonstrating by actions or language that you present a danger to documents or NARA property;

(3) Presenting a danger to other researchers, NARA or contractor employees, or volunteers; or

(4) Verbally or physically harassing or annoying other researchers, NARA or contractor employees, or volunteers.

(b) Denying or revoking research privileges means:

(1) We may deny or revoke your research privileges for up to 180 days;

(2) You lose research privileges at all NARA research rooms nationwide; and

(3) You lose your valid researcher identification card if you already have one.

(c) We notify all NARA facilities of the revocation of your research privileges.

(d) If we revoke your research privileges, we send you a written notice of the reasons for the revocation within 3 working days of the action.

§ 1254.50 Does NARA consider reinstating research privileges?

(a) You have 30 calendar days after the date of revocation to appeal the action in writing and seek reinstatement of research privileges. Mail your appeal to: Archivist of the United States, 8601 Adelphi Road, College Park, MD 20740-6001.

(b) The Archivist has 30 calendar days from receipt of an appeal to decide whether to reinstate your research privileges and to respond to you in writing.

(c) If the Archivist upholds the revocation of privileges or if you do not appeal, you may request in writing reinstatement of research privileges no earlier than 180 calendar days from the date we revoked privileges. This request may include application for a new researcher identification card.

(d) Our reinstatement of research privileges applies to all research rooms.

(e) If we reinstate your research privileges, we issue you a card for a probationary period of 60 days. At the end of the probationary period, you may apply for a new, unrestricted identification card, which we issue to you if your conduct during the probationary period follows the rules of conduct in this part and in part 1280 of this chapter.

§ 1254.52 Can NARA extend the period of revoked research privileges?

(a) If the reinstatement of research privileges would pose a threat to the safety of persons, property, or NARA holdings, or if, in the case of a probationary identification card, you fail to comply with the rules of conduct for NARA facilities, we may extend the revocation of privileges for additional 180-day periods. We send you a written notice of an extension within 3 workdays of our decision to continue the revocation of research privileges.

(b) You have 30 calendar days after the decision to extend the revocation of research privileges to appeal the action in writing. Mail your appeal to the Archivist at the address given in § 1254.50(a). The Archivist has 30 calendar days from receipt of your appeal to decide whether to reinstate your research privileges and to respond to you in writing.

Subpart C—Copying Archival Materials

General Information

§ 1254.60 What are NARA's copying services?

(a) You may order copies of many of our documents for a fee. Our fee schedule for copies is located in § 1258.12 of this chapter. Exceptions to the fee schedule are located in § 1258.4. See § 1258.6 about reproductions NARA may provide without charging a fee.

(b) For preservation reasons, we do not make copies from the original documents if the documents are available on microfilm and a clear copy (electrostatic, photographic, or microfilm) can be made from the microfilm.

§ 1254.62 Does NARA have archival materials protected by copyright?

Yes, although many of our holdings are in the public domain as products of employees or agents of the Federal Government, some records and donated historical materials do have copyright protection. Particularly in the case of some special media records, Federal agencies may have obtained materials from private commercial sources, and these may carry publication restrictions in addition to copyright protection. Presidential records may also contain copyrighted materials. You are responsible for obtaining any necessary permission for use, copying, and publication from copyright holders and for any other applicable provisions of the Copyright Act (Title 17, United States Code).

§ 1254.64 Will NARA certify copies?

Yes, the responsible director of a unit, or any of his or her superiors, the Director of the Federal Register, and their designees may certify copies of documents as true copies for a fee. The fee is found at § 1258.12(a).

Rules Relating to Self-Service Copying

§ 1254.70 How may I make my own copies of documents?

(a) Self-service copiers are available in some of our facilities. Contact the appropriate facility to ask about availability before you visit.

(b) In the Washington, DC, area, self-service card-operated copiers are located in research rooms. Other copiers we set aside for use by reservation are located in designated research areas. Procedures for use are outlined in §§ 1254.80 through 1254.84 of this subpart.

(c) You may use NARA self-service copiers where available after the research room attendant reviews the documents to determine their suitability for copying. The appropriate supervisor or the senior archivist on duty in the research room reviews the determination of suitability if you request.

(d) We may impose time limits on using self-service copiers if others are waiting to use them.

(e) In some of our facilities, you may use your own scanner or personal paper-to-paper copier to copy textual materials if the equipment meets our standards cited in §§ 1254.80 and 1254.86. Contact the appropriate facility for additional details before you visit.

(f) You must follow our document handling instructions in §§ 1254.36 and 1254.72. You also must follow our microfilm handling instructions in § 1254.42.

(g) You may use a hand-held camera with no flash or a cell phone camera to take pictures of documents only if you have the permission of the research room attendant.

(h) You may not use a self-service copier or personal scanner to copy some special media records. If you wish to copy motion pictures, maps and architectural drawings, or aerial photographic film, the appropriate staff can advise you on how to order copies. If you wish to obtain copies of electronic records files, the appropriate staff will assist you.

§ 1254.72 What procedures do I follow to copy documents?

(a) You must use paper tabs to designate individual documents you wish to copy. You must show the container including the tabbed documents to the research room attendant who determines whether they can be copied on the self-service copier. The manager of the staff administering the research room reviews the determination of suitability if you ask. After copying is completed, you must return documents removed from files for copying to their original position in the file container, you must refasten any fasteners removed to facilitate copying, and you must remove any tabs placed on the documents to identify items to be copied.

(b) If you are using a reserved copier, you must submit the containers of documents to the attendant for review before your appointment. The review time required is specified in each research room. Research room attendants may inspect documents after copying.

(c) You may copy from only one box and one folder at a time. After copying the documents, you must show the original documents and the copies to a research room attendant.

§ 1254.74 What documents are unsuitable for copying on a self-service or personal copier or scanner?

(a) Bound archival volumes (except when specialized copiers are provided).

(b) Documents fastened together by staples, clips, acco fasteners, rivets, or similar fasteners, where folding or bending documents may cause damage.

(c) Documents larger than the glass copy plate of the copier.

(d) Documents with uncancelled security classification markings.

(e) Documents with legal restrictions on copying.

(f) Documents that the research room attendant judges to be in poor physical condition or which may be subject to possible damage if copied.

§ 1254.76 What procedures do I follow to copy formerly national security-classified documents?

(a) We must properly cancel security classification markings (Confidential, Secret, Top Secret) and other restricted markings on declassified records before documents are copied. Only a NARA staff member can cancel security markings. Properly declassified documents bear the declassification authority as required by 32 CFR 2001.24.

(b) You may not remove from the research room copies of documents bearing uncancelled classification markings. We confiscate copies of documents with uncancelled markings.

(c) When you copy individual documents, the research room staff cancels the classification markings on each page of the copy and places the declassification authority on the first page of each document. If you copy only selected pages from a document, you must make a copy of the first page bearing the declassification authority and attach that page to any subsequent page(s) you copy from the document. You must show this declassification authority to the guard or research room attendant when you remove copies of documents from the research room or the building.

(d) Before you copy formerly-classified materials, we provide you with a declassification strip, which you attach to the copier. The strip reproduces on each page copied and cancels the security markings. We may also provide a declassification strip to attach to your personal copier or scanner.

(e) Staff at Presidential libraries cancel security markings before documents are provided to researchers in research rooms.

Rules Relating to Using Copying Equipment

§ 1254.80 Does NARA allow me to use scanners or other personal copying equipment?

(a) Subject to §§ 1254.26(d) and 1254.86, you may use scanners and other copying equipment if the equipment meets certain conditions or minimum standards described in paragraphs (b) through (g) of this section. Exceptions are noted in paragraph (h). The supervisor administering the research room or the senior staff member on duty in the research room reviews the research room attendant's determination if you request.

(b) Equipment platens or copy boards must be the same size or larger than the records. No part of a record may overhang the platen or copy board.

(c) No part of the equipment may come in contact with records in a manner that causes friction, abrasion, or that otherwise crushes or damages records.

(d) We prohibit drum scanners.

(e) We prohibit automatic feeder devices on flatbed scanners. When using a slide scanner, we must check slides after scanning to ensure that no damage occurs while the slide is inside the scanner.

(f) Light sources must not raise the surface temperature of the record you copy. You must filter light sources that generate ultraviolet light.

(g) All equipment surfaces must be clean and dry before you use records. You may not clean or maintain equipment, such as replacing toner cartridges, when records are present. We do not permit aerosols or ammonia-containing cleaning solutions. We permit a 50 percent water and 50 percent isopropyl alcohol solution for cleaning.

(h) If you wish to use a scanner or other personal copier in a regional archives or Presidential library, contact the facility first for approval. Not all facilities permit the use of scanners or personal copying equipment because of space, electrical load concerns, and other reasons. Your request must state the space and power consumption requirements and the intended period of use.

(i) In facilities that provide a self-service copier or permit the use of personal paper-to-paper copiers or scanners, you must show documents you wish to copy to the research room attendant for approval.

(j) If you have any question about what is permissible at any given facility, consult with the facility before your visit. Contact information for our facilities is found in part 1253 of this chapter and at the NARA Web site, http://www.archives.gov.

§ 1254.82 What limitations apply to my use of self-service card-operated copiers?

(a) There is a 5-minute time limit on copiers in research rooms when others are waiting to use the copier. If you use a microfilm reader-printer, we may limit you to three copies when others are waiting to use the machine. If you wish to copy large quantities of documents, you should see a staff member in the research room to reserve a copier for an extended time period.

(b) If we must cancel an appointment due to copier failure, we make every effort to schedule a new mutually agreed-upon time. However, we do not displace researchers whose appointments are not affected by the copier failure.

§ 1254.84 How may I use a debit card for copiers in the Washington, DC, area?

You may use cash to purchase a debit card from a vending machine during the hours that research rooms are open as cited in part 1253 of this chapter. In addition, you may buy debit cards with cash, check, money order, credit card, or funds from an active deposit account from the Cashier's Offices located in the National Archives Building and in the researcher lobby of the National Archives at College Park, during posted hours. Inserting a debit card into the copier enables you to make copies, for the appropriate fee, up to the value on the debit card. You may add value to the debit card by using the available vending machines in our research rooms. We cannot make refunds. The fee for self-service copiers is found in § 1258.12 of this chapter.

§ 1254.86 May I use a personal paper-to-paper copier at the National Archives at College Park?

(a) At the National Archives at College Park facility NARA approves a limited number of researchers to bring in and use personal paper-to-paper copying equipment in the Textual Research Room (Room 2000). Requests must be made in writing to the chief of the Research Support Branch (NWCC2), National Archives and Records Administration, 8601 Adelphi Rd., College Park, MD 20740-6001. Requests must identify the records you wish to copy, the expected duration of the project, and the make and model of the equipment.

(b) We evaluate requests using the following criteria:

(1) A minimum of 3,000 pages must be copied;

(2) The project is expected to take at least 4 weeks, with the copier in use a minimum of 6 hours per day or 30 hours per week;

(3) The copying equipment must meet our standards for preservation (see §§ 1254.26(d) and 1254.80); and

(4) Space is available for the personal copying project. NARA allows no more than 3 personal copying projects in the research room at one time, with Federal agencies given priority over other users.

(c) You must coordinate with research room management and oversee the installation and removal of copying equipment. You are responsible for the cost and supervision of all service calls and repairs. You must remove copying equipment and supplies within two business days after the personal copying project is completed.

(d) NARA is not responsible for any personal equipment or consumable supplies.

(e) You must be trained by NARA staff on the proper methods for handling and copying archival documents.

(f) You must abide by all regulations on copying stated in this subpart.

(g) We reserve the right to discontinue the privilege of using a personal copier at any time without notice. We discontinue your privilege if you violate one of the conditions in this subpart, we need to provide space for a Federal agency, or we lack staff to supervise the area.

§ 1254.88 What are the rules for the Motion Picture, Sound, and Video Research Room at the National Archives at College Park?

(a) We provide use of NARA viewing and listening equipment in the research room on a first-come-first-served basis. When others are waiting to use the equipment, we may impose a 3-hour limit on your use.

(b) You may use the NARA-furnished recorder or your personal recording device and media to make a copy of unrestricted archival materials in the research room.

(c) We provide you with a copy of the Motion Picture, Sound, and Video Research Room rules and a warning notice on potential copyright claims in unrestricted titles. You are responsible for obtaining any needed permission or release from a copyright owner for other than personal use of the copy.

(d) The research room attendant may inspect and tag your personal recording equipment before admitting you into the unrestricted viewing and copying area in the research room. You must place all equipment and accessory devices on the carts we provide, except that you may place a tripod holding a video camera on the floor in front of a film-viewing station. We are not responsible for damage to or loss of personal equipment and accessories.

(e) You must remain in the research room at your audio or film viewing station at all times while your personal equipment is in use. You must remove your personal equipment from the research room when you leave the room for the day. We cannot be responsible for any damage to or loss of your equipment.

(f) We are not responsible for assisting with “hook-up” to NARA viewing equipment, for providing compatibility between the personal recording equipment and NARA viewing equipment, or for the quality of the copies you make. We provide you information on the types of NARA equipment that we have in the research room and on the cables necessary for hook-up to our viewing equipment.

(g) When you bring audio or video recording tapes or cassettes into the unrestricted area of the research room, the research room attendant marks the recording media “NARA-approved personal property” for identification purposes. We inspect this media before you leave the research room and when you leave the research complex at the National Archives at College Park.

(h) You may reserve a NARA-furnished video copying station and 120-minute blank video cassette, for a fee, on a first-come-first-served basis for 90 minutes. If no one else is waiting to use the station, you may reserve an additional 90 minutes. You may not connect personal recording devices to NARA equipment at the video copying station. You may use only NARA-provided tapes at the video copying station. Fees for use of the station and blank cassette are specified in § 1258.12 of this chapter.

(i) You may not take any personal recording device or media in the restricted viewing area in the research room.

Subpart D—Microfilming Archival Materials

§ 1254.90 What is the scope of this subpart?

(a) This subpart establishes rules and procedures for the use of privately owned microfilm equipment to film accessioned archival records and donated historical materials in NARA's legal and physical custody by:

(1) Foreign, Federal, state, and local government agencies;

(2) Private commercial firms;

(3) Academic research groups; or

(4) Other entities or individuals that request exemption from obtaining copies through the regular fee schedule reproduction ordering system of NARA.

(b) If you wish to microfilm Federal agency records in the physical custody of the Washington National Records Center (WNRC), contact the director, WNRC, about procedures for obtaining permission from the originating agency to film those records (see § 1253.4). For information about procedures for obtaining permission from the originating agency to film records in the records center operation of one of NARA's regional records facilities or in the physical custody of the National Personnel Records Center (NPRC), contact the Regional Administrator of the region in which the records are located (see § 1253.6), or the director, NPRC, for records in NPRC (see § 1253.5).

(c) Federal agencies that need to microfilm archival records in support of the agency's mission must contact the appropriate office as specified in § 1254.92(a) as soon as possible after the need is identified for information concerning standards and procedures that apply to their microfilming of archival records.

§ 1254.92 How do I submit a request to microfilm records and donated historical materials?

(a) You must submit your request to microfilm materials to the appropriate office.

(1) Submit your written request to microfilm archival records or donated historical materials (except donated historical materials under the control of the Office of Presidential Libraries) in the Washington, DC, area to the Assistant Archivist for Records Services—Washington, DC (NW), 8601 Adelphi Rd., College Park, MD 20740-6001.

(2) Submit your written request to microfilm archival records or donated historical materials in a NARA regional archives to the Assistant Archivist for Regional Records Services (NR), 8601 Adelphi Rd., College Park, MD 20740-6001.

(3) Submit your written request to microfilm records or donated historical materials in a Presidential library or donated historical materials in the Washington area under the control of the Office of Presidential Libraries to the Assistant Archivist for Presidential Libraries (NL), 8601 Adelphi Rd., College Park, MD 20740-6001.

(4) OMB control number 3095-0017 has been assigned to the information collection contained in this section.

(b) You must submit your request to use privately owned microfilm equipment four months in advance of the proposed starting date of the microfilming project. If you submit your request with less advance notice, we consider it and may approve it if we have available adequate NARA space and staff and if you can complete all training, records preparation, and other NARA requirements in a shorter time frame.

(1) You may include in your request only one project to microfilm a complete body of documents, such as an entire series, a major continuous segment of a very large series which is reasonably divisible, or a limited number of separate series related by provenance or subject.

(2) We do not accept additional requests from an individual or organization to microfilm records in a NARA facility while we evaluate an earlier request from that individual or organization to microfilm records at that facility.

(3) We establish the number of camera spaces available to a single project based upon the total number of projects approved for filming at that time.

§ 1254.94 What must my request include?

(a) A description of the documents you wish to copy that includes the following elements:

(1) Record group number or agency of origin or, for donated historical materials, title of the collection;

(2) Title of series or file segment;

(3) Date span; and

(4) Estimated volume in number of pages or cubic feet.

(b) The estimated amount of time (work-days) that the microfilm copying project will take; the date that you would like to begin the project; and the number of persons who would require training (see § 1254.108(b)).

(c) The number and a description of the equipment that you will use for copying including:

(1) The name of the manufacturer and model number; and

(2) The type of light source to be employed (fluorescent, tungsten, or electronic flash) and if electronic flash (i.e., strobe) or fluorescent, whether the light source is filtered to omit ultraviolet radiation.

(d) A statement of the procedures that you will follow to ensure that you copy all pages, that the images on the microfilm are legible, and that the microfilm is properly processed. At a minimum, the procedures should meet the requirements specified in part 1230 of this chapter regarding the microfilming of permanent records.

§ 1254.96 What credits must I give NARA?

(a) You must agree to credit NARA as having custody of the original documents. The credit must appear at the beginning of a microfilm publication and in any publicity material or descriptions of the publication.

(b) If the original documents are Federal records, you must agree to include on the film this statement: “The documents reproduced in this publication are among the records of the (name of agency) in the custody of the National Archives of the United States. (Name of microfilm publication producer) does not claim any copyright interest in these official U.S. Government records.”

(c) If the original documents are donated historical materials, you must agree to include on the film this statement: “The documents reproduced in this publication are donated historical materials from (name of donor) in the custody of the (name of Presidential library or National Archives of the United States). The National Archives and Records Administration administers them in accordance with the requirements of the donor's deed of gift and the U.S. Copyright Law, Title 17, U.S.C. (Name of microfilm publication producer) does not claim any copyright interest in these donated historical materials.”

(d) If the original documents are Presidential or Vice-Presidential records as specified in 44 U.S.C. 2201, you must agree to include on the film this statement: “The documents reproduced in this publication are Presidential records in the custody of the (name of Presidential library or National Archives of the United States). The National Archives and Records Administration administers them in accordance with the requirements of Title 44, U.S.C. (Name of microfilm publication producer) does not claim any copyright interest in these official Presidential records.”

(e) If the original documents are records of Congress, you must agree to include on the film this statement: “The documents reproduced in this publication are among the records of the (House of Representatives/Senate) in the physical custody of the National Archives and Records Administration (NARA). NARA administers them in accordance with the requirements of the (House/Senate). (Name of microfilm publication producer) does not claim any copyright interest in these official congressional records.”

§ 1254.98 May NARA make subsequent use of my publication?

You must give NARA a royalty-free worldwide license, to take effect seven years after you complete filming at the NARA facility, to publish, display, reproduce, distribute, and sell the publication, and to create derivative works based on the publication, and to use the publication in collective works, all without limitation. The license required by this section must be written to take effect upon publication if there is no commercial distributor, or once commercial distribution ends if less than seven years from the date you complete filming at the NARA facility.

§ 1254.100 How does NARA evaluate requests?

(a) NARA evaluates requests by estimating how well completion of a proposed project would further our efforts to preserve and to make available to the public the historically valuable records of the Government.

(b) In considering multiple requests to film at the same time, we give priority to microfilming records that have research value for a variety of studies or that contain basic information for fields of research in which researchers have demonstrated substantial interest.

(c) The records to be filmed should be reasonably complete and not subject to future additions, especially of appreciable volumes, within the original body of records. Records with pending or future end-of-series additions are appropriate for filming.

(d) The records to be filmed should not have substantial numbers of documents withdrawn because of continuing national security classification, privacy, or other restrictions.

(e) We approve only requests to microfilm a complete body of documents, such as an entire series or a major continuous segment of a very large series that is reasonably divisible. Microfilming a complete body of documents means that you must consecutively copy all documents within the file unit(s), from the first to the last page, not skipping any pages in between except for pages that are exact duplicates or blank pages that are not included in a pagination scheme.

(f) We normally approve only requests that include assurances that the project will adhere to the specifications in part 1230 of this chapter concerning microfilm stock standards, index placement, and microfilm processing for permanent records.

(g) We approve only requests that specify that NARA will receive a first generation silver halide duplicate negative containing no splices made from the original camera negative of the microform record created in accordance with part 1230 of this chapter.

(1) We may use this duplicate negative microform to make duplicate preservation and reference copies. The copies may be made available for NARA and public use in NARA facilities and programs immediately upon receipt.

(2) We may also make additional use of the microform, as indicated in § 1254.98, seven years after you complete filming at the NARA facility, or upon delivery of the publication if there is no commercial distributor, or when the commercial distributor is no longer available, whichever occurs first. We may choose to add our own editorial material to the microform copies.

(3) You must deliver detailed roll lists with the microfilm. The lists must give the full range of file titles and a complete list of all file numbers on each roll of microfilm. We prefer that the list be provided in a fielded, electronic format to facilitate its use by staff and researchers. If the electronic format is a data file with defined or delimited fields, you should transfer with the file the records layout identifying the fields, any coded values for fields, and explanations of any delimiters.

(4) Microfilm projects may donate to us additional indexes and finding aids. NARA and the microfilm project execute a deed of gift that specifies restrictions on NARA's use and dissemination of these products under mutually acceptable terms.

§ 1254.102 What requests does NARA not approve?

(a) We do not approve any request that does not include all of the information we require in §§ 1254.94 and 1254.96.

(b) We do not normally approve requests to microfilm documents that:

(1) Have previously been microfilmed and made available to the public;

(2) We have approved for microfilming by another party; or

(3) We plan to film as a NARA microfilm publication or which relate closely to other documents previously microfilmed or approved for microfilming by NARA. We may grant exceptions to this provision at our discretion.

(c) We normally do not approve requests to microfilm documents:

(1) Having restrictions on access that preclude their reproduction;

(2) Known to be protected by copyright;

(3) Having high intrinsic value that only authorized NARA personnel may handle;

(4) In vulnerable physical condition;

(5) Having a high research demand and which we would have to deny to others for an extended period of time during the microfilming process. Where possible, we assist you in developing filming schedules that avoid the need to close documents for a lengthy period of time; and

(6) In formats, such as oversize documents, bound volumes, and others, that would be subject to excessive stress and possible damage from special equipment you plan to use, as well as documents fastened with grommets, heavy duty staples, miscellaneous fasteners, or wafers and other adhesives that cannot be removed without tearing or breaking documents.

(d) We normally do not approve requests from persons or organizations that failed to produce usable microfilm or to honor commitments they made in previous requests, or for whom we have had to rescind previous permission to microfilm documents because of their conduct.

(e) We do not approve requests to microfilm records in NARA facilities in which there is insufficient space available for private microfilming. We do not permit private microfilming in our records storage (stack) areas.

(1) Federal agencies microfilming records in support of the agency's mission may use the space set aside for private microfilming. Agency microfilming takes priority over private microfilming when there is insufficient space to accommodate both at the same time.

(2) When a NARA facility does not have enough space to accommodate all requests, we may schedule separate projects by limiting the time allowed for each particular project or by requiring projects to alternate their use of the space.

(3) We also do not approve requests where the only space available for filming is in the facility's research room, and such work would disturb researchers. We do not move records from a facility lacking space for private microfilming to another NARA facility for that purpose.

(f) We do not approve requests to microfilm records when there is not enough staff to provide the necessary support services, including document preparation, training of private microfilmers, and monitoring the filming.

(g) We do not approve the start of a project to microfilm records until you have agreed in writing to the amount and schedule of fees for any training, microfilm preparation, and monitoring we must conduct that is necessary to support your project. Our letter of tentative approval for the project includes an agreement detailing the records in the project and the detailed schedule of fees for NARA services for the project. We give final approval when we receive your signed copy of the agreement.

§ 1254.104 How does NARA determine fees to prepare documents for microfilming?

(a) As part of our evaluation of a request to microfilm documents, we determine the amount of microfilm preparation that we must do before you can microfilm the documents and the estimated cost of such preparation. We base fees for microfilm preparation on direct salary costs (including benefits) and supply costs when we perform the work. When a NARA contractor performs the work, the fees are the cost to NARA. Microfilm preparation includes:

(1) Removing document fasteners from documents when the fasteners can be removed without damage to the documents; and

(2) Taking any document conservation actions that must be accomplished in order to film the documents, such as document flattening or mending.

(b) We provide you detailed information on the fees for microfilm preparation in the letter of approval. You must pay fees in accordance with § 1258.14 of this chapter. When a body of documents requires extensive microfilm preparation, we may establish a different payment schedule at our discretion.

§ 1254.106 What are NARA's equipment standards?

(a) Because we have limited space in many NARA facilities, microfilm/fiche equipment should be operable from a table top unless we have given written permission to use free standing/floor model cameras. You may only use planetary type camera equipment. You may not use automatic rotary cameras and other equipment with automatic feed devices. We may approve your use of book cradles or other specialized equipment designed for use with bound volumes, oversized documents, or other formats, as well as other camera types not specified here, on a case-by-case basis.

(b) The power consumption of the equipment normally must not exceed 1.2 kilowatts. Power normally available is 115 volts, 60 hz. You must make requests for electricity exceeding that normally available at least 90 days in advance.

(c) You may not use equipment having clamps or other devices to exert pressure upon or to attach the document to any surface in a way that might damage the document.

(d) The equipment must not use a heat generating light source in close enough proximity to the documents to result in their physical distortion or degradation. All sources of ultraviolet light must be filtered.

§ 1254.108 What are NARA's requirements for the microfilming process?

(a) Your equipment must conform to the equipment standards in § 1254.106.

(b) You must handle documents according to the training and instructions provided by our staff so that documents are not damaged during copying and so that their original order is maintained. Only persons who have attended NARA training will be permitted to handle the documents or supervise microfilming operations. We charge you fees for training services and these fees will be based on direct salary costs (including benefits) and any related supply costs. We specify these fees in the written agreement we require for project approval in § 1254.102(h).

(c) You may microfilm documents from only one file unit at a time. After you complete microfilming, you must return documents you removed from files for microfilming to their original position in the file container, refasten any fasteners you removed to facilitate copying, and remove any tabs you placed on the documents to identify items to copy. We will provide fasteners for replacement as necessary.

(d) You may not leave documents unattended on the copying equipment or elsewhere.

(e) Under normal microfilming conditions, actual copying time per sheet must not exceed 30 seconds.

(f) You must turn off any lights used with the camera when the camera is not in actual operation.

(g) You may operate microfilm equipment only in the presence of the research room attendant or a designated NARA employee. If NARA places microfilm projects in a common research area with other researchers, the project will not be required to pay for monitoring that is ordinarily provided. If the microfilm project is performed in a research room set aside for copying and filming, we charge the project fees for these monitoring services and these fees will be based on direct salary costs (including benefits). When more than one project share the same space, monitoring costs will be divided equally among the projects. We specify the monitoring service fees in the written agreement required for project approval in § 1254.102(h).

(h) The equipment normally should be in use each working day that it is in a NARA facility. The director of the NARA facility (as defined in § 1252.2 of this chapter) decides when you must remove equipment because of lack of regular use. You must promptly remove equipment upon request of the facility director.

(i) We assume no responsibility for loss or damage to microfilm equipment or supplies you leave unattended.

(j) We inspect the microform output at scheduled intervals during the project to verify that the processed film meets the microfilm preparation and filming standards required by part 1230 of this chapter. To enable us to properly inspect the film, we must receive the film within 5 days after it has been processed. You must provide NARA with a silver halide duplicate negative of the filmed records (see § 1254.100(g)) according to the schedule shown in paragraph (k). If the processed film does not meet the standards, we may require that you refilm the records.

(k) When you film 10,000 or fewer images, you must provide NARA with a silver halide duplicate negative upon completion of the project. When the project involves more than 10,000 images, you must provide a silver halide duplicate negative of the first completed roll or segment of the project reproducing this image count to NARA for evaluation. You also must provide subsequent completed segments of the project, in quantities approximating 100,000 or fewer images, to NARA within 30 days after filming unless we approve other arrangements.

(l) If the microfilming process is causing visible damage to the documents, such as flaking, ripping, separation, fading, or other damage, filming must stop immediately and until the problems can be addressed.

§ 1254.110 Does NARA ever rescind permission to microfilm?

We may, at any time, rescind permission to microfilm records if:

(a) You fail to comply with the microfilming procedures in § 1254.108;

(b) Inspection of the processed microfilm reveals persistent problems with the quality of the filming or processing;

(c) You fail to proceed with the microfilming or project as indicated in the request, or

(d) The microfilming project has an unanticipated adverse effect on the condition of the documents or the space set aside in the NARA facility for microfilming.

(e) You fail to pay NARA fees in the agreed to amount or on the agreed to payment schedule.

2. Revise part 1284 to read as follows:

PART 1284—EXHIBITS

Sec.
1284.1 Scope of part.
1284.20 Does NARA exhibit privately-owned material?
1284.30 Does NARA lend documents to other institutions for exhibit purposes?

Authority: 44 U.S.C. 2104(a), 2109.

§ 1284.1 Scope of part.

This part sets forth policies and procedures concerning the exhibition of materials.

§ 1284.20 Does NARA exhibit privately-owned material?

(a) NARA does not normally accept for display documents, paintings, or other objects belonging to private individuals or organizations except as part of a NARA-produced exhibit.

(b) NARA may accept for temporary special exhibit at the National Archives Building privately-owned documents or other objects under the following conditions:

(1) The material to be displayed relates to the institutional history of the National Archives and Records Administration or its predecessor organizations, the National Archives Establishment and the National Archives and Records Service;

(2) Exhibition space is available in the building that NARA judges to be appropriate in terms of security, light level, climate control, and available exhibition cases or other necessary fixtures; and

(3) NARA has resources (such as exhibit and security staff) available to produce the special exhibit.

(c) The Director of Museum Programs (NWE), in conjunction with the NARA General Counsel when appropriate, reviews all offers to display privately-owned material in the Washington, DC, area, and negotiates the terms of exhibition for offers that NARA can accept. Directors of Presidential libraries perform these tasks for their respective libraries. The lender must provide in writing evidence of title to and authenticity of the item(s) to be displayed before NARA makes a loan agreement.

(d) The Director of Museum Programs or director of the pertinent Presidential library will inform the offering private individual or organization of NARA's decision in writing within 60 days.

§ 1284.30 Does NARA lend documents to other institutions for exhibit purposes?

Yes, NARA considers lending documents that are in appropriate condition for exhibition and travel. Prospective exhibitors must comply with NARA's requirements for security, fire protection, environmental controls, packing and shipping, exhibit methods, and insurance. For additional information, contact Registrar, Museum Programs (NWE), National Archives and Records Administration, 8601 Adelphi Road, College Park, MD 20740-6001.

Dated: June 24, 2004.
John W. Carlin,
Archivist of the United States.

[FR Doc. 04-14753 Filed 6-29-04; 8:45 am]

BILLING CODE 7515-01-P